DEPARTMENT OF ENERGY

Federal Energy Regulatory Commission

Sunshine Act Meetings

The following notice of meeting is published pursuant to section 3(a) of the government in the Sunshine Act (Pub. L. 94-409), 5 U.S.C. 552b:

AGENCY HOLDING MEETING: Federal Energy Regulatory Commission.

DATE AND TIME: September 22, 2022, 10:00 a.m.

PLACE: Room 2C, 888 First Street NE, Washington, DC 20426.

STATUS: Open to the public.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at https://elibrary.ferc.gov/eLibrary/search using the eLibrary link.

1093rd—Meeting, Open Meeting
[September 22, 2022, 10:00 a.m.]
Item No. | Docket No. | Company
ADMINISTRATIVE
A-1 | AD22-1-000 | Agency Administrative Matters.
A-2 | AD22-2-000 | Customer Matters, Reliability, Security and Market Operations.
ELECTRIC
E-1 | RM22-19-000 | Incentives for Advanced Cybersecurity Investment.
| RM21-3-000 | Cybersecurity Incentives.
E-2 | RM16-17-001 | Data Collection for Analytics and Surveillance and Market-Based Rate Purposes.
| ER16-775-000 | 3 Phases Renewables Inc.
| ER11-2649-000 | 3C Solar LLC.
| ER10-269-000 | 3Degrees Group, Inc.
| ER20-1477-000 | 3PR Trading, Inc.
| ER13-2260-000 | ABC Energy, LLC.
| ER17-1151-000 | ADG Group Inc.
| ER06-743-000 | Air Liquide.
| ER12-2600-000 | American Illuminating Company, LLC.
| ER03-769-000 | American PowerNet Management, LP.
| ER13-415-000 | Anahau Energy, LLC.
| ER04-226-000 | APN Starfirst, LP.
| ER07-1287-001 | Apple Group.
| ER17-1594-002 | Archer Energy, LLC.
| ER17-923-001 | Ashley Energy LLC.
| ER09-1689-000 | Backyard Farms Energy LLC.
| ER15-2693-002 | Baltimore Power Company LLC.
| ER12-2233-000 | Berry Petroleum Company, LLC.
| ER16-371-000 | BioUrja Power, LLC.
| ER13-48-000 | BITH Energy, Inc.
| ER13-29-000 | BITH Solar 1, LLC.
| ER15-1687-001 | Blue Cube Operations LLC.
| ER19-1826-001 | Bolt Energy, LLC.
| ER18-1977-001 | Brantley Farm Solar, LLC.
| ER13-1403-000 | Bridgeport Fuel Cell, LLC.
| ER18-2217-000 | Buckleberry Solar, LLC.
| ER15-2541-000 | Burgess Capital LLC.
| ER20-711-000 | Cambria Wind, LLC.
| ER14-407-001 | Capacity Markets Partners, LLC.
| ER97-4273-000 | Cargill Power Markets, LLC.
| ER19-288-000 | Carson Hybrid Energy Storage LLC.
| ER97-2872-000 | Central Hudson Gas & Electric Corporation.
| ER10-636-000 | Centre Lane Trading Ltd.
| ER98-3774-000 | Choctaw Generation Limited Partnership.
| ER13-357-001 | Cirrus Wind 1, LLC.
| ER20-2654-000 | Clear Power LLC.
| ER17-808-001 | Clearview Electric, Inc.
| ER11-3336-000 | Command Power Corp.
| ER12-1472-000 | Conch Energy Trading, LLC.
| ER14-1858-000 | Consolidated Power Co., LLC.
| ER08-371-000 | Cooperative Energy Incorporated (An Electric Membership Corporation).
| ER09-560-000 | Covanta Maine, LLC.
| ER15-631-000 | Crawfordsville Energy, LLC.
| ER16-722-000 | Current Power & Gas Inc.
| ER21-251-001 | Degrees3 Transportation Solutions, LLC.
| ER09-1645-000 | Devonshire Energy LLC.
| ER21-2535-000 | Dichotomy Power Maine, LLC.
| ER15-1810-000 | Dillon Power, LLC.
| ER11-2021-001 | Domtar A.W. LLC.
| ER11-2020-000 | Domtar Paper Company, LLC.
| ER17-2475-000 | Durgin and Crowell Lumber Company, Inc.
| ER13-797-000 | EBRFUEL, LLC.
| ER95-428-000 | El Paso Marketing Company, L.L.C.
| ER13-1646-001 | Electron Hydro, LLC.
| ER10-2891-000 | Elektrisola, Inc.
| ER17-21-000 | Elevation Energy Group, LLC.
| ER99-3411-000 | Energy Cooperative of New York, Inc.
| ER08-425-000 | Energy Exchange Direct, LLC.
| ER11-2730-000 | Energy Exchange International, LLC.
| ER18-155-000 | EnPowered.
| ER91-569-000 | Entergy Arkansas, Inc., Entergy Mississippi, Inc., and Entergy New Orleans, Inc.
|  | EONY Generation Limited.
| ER00-136-000 | ExxonMobil Baton Rouge Complex.
| ER06-771-000 | ExxonMobil Beaumont Complex.
| ER06-772-000 | ExxonMobil LaBarge Shute Creek Treating Facility.
| ER06-773-000 | Falcon Energy, LLC.
|  | FC Energy Services Company, LLC.
| ER09-1075-000 | FOREST INVESTMENT GROUP, LLC.
| ER07-1247-002 | Fox Creek Farm Solar, LLC.
| ER05-1079-000 | Fred Meyer Stores, Inc.
| ER18-2194-001 | Full Circle Renewables, LLC.
| ER11-3615-000 | Garland Power Company.
| ER11-4536-000 | Gateway Energy Marketing.
| ER10-2954-000 | GBC Metals LLC.
| ER11-4718-001 | Gichi Noodin Wind Farm, LLC.
| ER11-2825-000 | Global Energy, LLC.
| ER20-2087-000 | Griffiss Utility Services Corporation.
| ER12-346-000 | GUSC Energy Inc.
| ER11-4672-000 | Hammond Belgrade Energy, LLC.
| ER12-2203-001 | Harvard Dedicated Energy Limited.
| ER10-2890-000 | Hawkeye Energy Greenport, LLC.
| ER05-658-000 | Helvetia Solar, LLC.
| ER03-833-000 | High Liner Foods Incorporated.
| ER12-2405-001 | High Lonesome Mesa, LLC.
| ER12-795-001 | Hill Energy Resource & Services, LLC.
| ER09-712-000 | Holcim (US) Inc.
| ER12-1613-001 | Homer City Generation, L.P.
| ER11-3053-001 | Hoopeston Wind, LLC.
| ER13-55-000 | ICC Energy Corporation.
| ER14-2956-004 | IEP Power Marketing LLC.
| ER11-4489-000 | Industrial Assets, Inc.
| ER06-1007-000 | Innovative Solar 54, LLC.
| ER18-1289-000 | Innovative Solar 67, LLC.
| ER19-117-001 | Jether Energy Research, LTD.
| ER19-118-001 | Keni Energy LLC.
| ER16-89-000 | KEPCO Solar of Alamosa LLC.
| ER17-1578-000 | Kingfisher Wind, LLC.
| ER11-4050-000 | Kiyoshi Technologies, LLC.
| ER15-1308-000 | Kleantricity, Inc.
| ER15-1609-000 | KODA Energy, LLC.
| ER12-1524-000 | Lazarus Energy Holdings, LLC.
| ER09-107-000 | LE Energy, LLC.
| ER08-848-000 | Light Power & Gas LLC.
| ER16-1788-002 | Lockport Energy Associates, L.P.
| ER21-1768-000 | Long Island Solar Farm, LLC.
| ER07-1249-002 | Longreach Energy, LLC.
| ER11-3589-000 | Major Lending, LLC.
| ER15-2470-000 | Manifold Energy Inc.
| ER05-744-000 | Mansfield Power and Gas, LLC.
| ER18-1549-000 | Maple Analytics, LLC.
| ER13-2255-000 | Marengo Battery Storage, LLC.
| ER10-2541-000 | Massie Power LLC.
| ER19-610-000 | Mega Energy Holdings LLC.
| ER08-23-001
| ER13-1298-001 | Mitsui & Co. Energy Marketing and Services (USA), Inc.
|  | MMP SCO, L L C.
| ER19-2425-001 | Mobile Energy LLC.
|  | Monterey Consulting Associates, Inc.
| ER16-1254-002 | Moore Energy, LLC.
| ER01-480-000 | Myotis Power Marketing LLC.
| ER11-4603-000 | National Gas & Electric, LLC.
| ER15-612-000 | Nevada Gold Energy LLC.
| ER13-1249-002 | New England Wire Technologies, Corp.
| ER15-2704-000 | New Hope Power Partnership.
| ER06-1055-000 | New York Industrial Energy Buyers, LLC.
| ER10-2754-000 | NFI Solar, LLC.
| ER06-1286-000 | North Branch Resources, LLC.
| ER05-1225-000 | Novo BioPower, LLC.
| ER10-904-000 | NTE Southeast Electric Company, LLC.
| ER03-293-000 | Nylon Corporation of America.
| ER13-1665-000 | One Nation Energy Solutions, LLC.
| ER19-302-001 | PACE RENEWABLE ENERGY 1 LLC.
| ER18-3-000 | PGPV, LLC.
| ER03-821-000 | Phibro Americas LLC.
| ER19-178-001 | Piedmont Energy Fund, LP.
| ER12-1603-001 | Planet Energy (Maryland) Corp.
| ER18-296-000 | Planet Energy (New York) Corp.
| ER13-1135-001 | Planet Energy (Pennsylvania) Corp.
| ER11-2168-000 | Planet Energy (USA) Corp.
| ER11-2179-000 | Power Choice, Inc.
| ER11-2167-000 | Precept Power LLC.
| ER11-2166-000 | Premier Empire Energy, LLC.
| ER10-812-000 | Quantum Power Corp.
| ER19-1405-000 | Raider Dog LLC.
| ER13-2230-001 | RDAF Energy Solutions, LLC.
| ER17-204-001 | Renaissance Power, L.L.C.
| ER08-631-000 | Renewable Power Direct, LLC.
| ER16-895-002 | Renewable Power Strategies, LLC.
| ER01-3109-000 | ResCom Energy LLC.
| ER14-1135-000 | Reuel Energy LLC.
| ER12-1751-000 | Rigby Energy Resources, LP.
| ER09-1739-000 | RJUMR ENERGY PARTNERS CORP.
| ER17-1577-000 | RLD Resources, LLC.
| ER14-166-000 | Roseburg Forest Products.
| ER14-2013-000 | Sage Solar I LLC.
| ER12-1244-001 | Sage Solar II LLC.
| ER01-2830-000 | Sage Solar III LLC.
| ER19-1240-000 | Saint Anselm College.
| ER19-1241-000 | Samchully Power & Utilities 1 LLC.
| ER19-1242-000 | Santanna Natural Gas Corporation.
| ER10-2750-000 | SBR Energy, LLC.
| ER15-359-001 | Seguro Energy Partners, LLC.
| ER11-4453-000 | Shipyard Energy, LLC.
| ER11-3187-001 | Silver Bear Power, LLC.
| ER18-1548-000 | Smith Creek Hydro, LLC.
| ER10-2951-000 | Southard Energy Partners, LLC.
| ER13-733-000 | Southern California Telephone Company.
| ER16-904-001 | Southern Energy Solution Group, LLC.
| ER13-698-000 | Spruance Genco, LLC.
| ER11-3186-000 | Stand Energy Corporation.
| ER12-1775-000 | Sunbury Energy, LLC.
| ER06-634-000 | Sustainable Star.
| ER95-362-000 | Texzon Utilities, Ltd.
| ER13-113-002 | The Energy Group of America, Inc.
| ER11-2354-000 | The Highlands Energy Group.
| ER03-1150-000 | The Legacy Energy Group, LLC.
| ER16-1202-001 | Thicksten Grimm Burgum, Inc.
| ER06-464-000 | Thordin ApS.
| ER99-3571-000 | Titan Gas and Power.
| ER11-4604-000 | Town of Hanover.
| ER20-2618-000 | Trane Grid Services LLC.
| ER14-1767-000 | Tropicana Manufacturing Company Inc.
| ER14-2597-001 | TrueLight Commodities, LLC.
| ER13-1107-000 | TrueLight Energy, LLC.
| ER11-2962-001 | UBS AG.
| ER11-3724-000 | US Borax, Inc.
| ER11-3723-000 | V3 Commodities Group, LLC.
| ER02-973-000 | Viridity Energy, Inc.
| ER15-1630-001 | Vista Energy Marketing, L.P.
| ER16-1610-001 | Volunteer Energy Services, Inc.
| ER11-4706-001 | Western Aeon Energy Trading LLC.
| ER16-2307-001 | Western Reserve Energy Services, LLC.
| ER04-937-000 | White Pine Electric Power L.L.C.
| ER21-908-000 | Windy Flats Partners, LLC.
| ER11-3263-000 | Wolverine Holdings, L.P.
| ER04-262-000 | Woodland Pulp LLC.
| ER09-750-000 | Woomera Energy, LLC.
| ER06-1273-000 | Z&Y Energy Trading LLC.
| ER10-2345-000 | Zone One Energy, LLC.
| ER18-624-000
| ER18-2031-000
| ER15-820-001
E-3 | EL21-7-000 | Cricket Valley Energy Center, LLC and Empire Generating Company, LLC v. New York Independent System Operator, Inc.
E-4 | ER22-2044-000 | Just Energy Limited.
| ER22-2044-001
E-5 | Omitted
E-6 | ER22-2380-000 | Virginia Electric and Power Company.
E-7 | NJ22-11-000 | Orlando Utilities Commission.
E-8 | ER19-1428-005 | ISO New England Inc.
E-9 | ER21-1816-001 | KES Kingsburg, L.P.
E-10 | ER20-681-005 | Tri-State Generation and Transmission Association, Inc.
| ER20-681-006
| EL22-28-000
E-11 | ER21-57-002 | Shell Energy North America (US), L.P.
E-12 | ER21-42-001 | Tenaska Power Services Co.
E-13 | ER21-46-001 | Mercuria Energy America, LLC.
E-14 | ER18-2358-001 | Southwest Power Pool, Inc.
| ER19-1357-000 | GridLiance High Plains LLC.
| ER20-1313-000 (consolidated)
E-15 | ER22-1353-000 | GridLiance High Plains LLC.
E-16 | ER21-1438-000 | GridLiance High Plains LLC.
GAS
G-1 | RP22-1118-000 | MountainWest Overthrust Pipeline, LLC.
G-2 | RP22-1121-000 | Stagecoach Pipeline & Storage Company LLC.
HYDRO
H-1 | P-3777-013 | The Town of Rollinsford, New Hampshire.
H-2 | P-619-174 | Pacific Gas and Electric Company and City of Santa Clara.
H-3 | P-2530-057 | Brookfield White Pine Hydro LLC.
CERTIFICATES
C-1 | CP20-527-001 | Columbia Gulf Transmission, LLC.
C-2 | CP20-50-001 | Tennessee Gas Pipeline Company, L.L.C.
| CP20-51-001 | Southern Natural Gas Company, L.L.C.
C-3 | CP21-463-000 | Texas Eastern Transmission, LP.
C-4 | CP22-479-000 | ETC Texas Pipeline, Ltd.
C-5 | CP22-451-000 | Owen Stanley Parker v. Permain Highway Pipeline LLC, et al.
C-6 | RP22-678-000 | Hummel Generation, LLC v. UGI Sunbury, LLC.
C-7 | CP21-44-000 | LA Storage, LLC.
C-8 | CP22-474-000 | West Texas Gas, Inc. and West Texas Gas Utility, LLC.
C-9 | CP22-475-000 | West Texas Gas, Inc. and West Texas Gas Utility, LLC.
C-10 | CP22-476-000 | West Texas Gas, Inc. and West Texas Gas Utility, LLC.

A free webcast of this event is available through http://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Shirley Al-Jarani at 703-993-3104.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

Issued: September 15, 2022.
Kimberly D. Bose,
Secretary.

[FR Doc. 2022-20493 Filed 9-19-22; 4:15 pm]

BILLING CODE 6717-01-P